DEPARTMENT OF TRANSPORTATION

Maritime Administration

[USCG-2006-24644]

Withdrawal of TORP Terminal LP, Bienville Offshore Energy Terminal Liquefied Natural Gas (LNG) Deepwater Port Application

AGENCY: Maritime Administration, DOT.

ACTION: Deepwater port, application withdrawal announcement; notice.

SUMMARY: The Maritime Administration (MARAD) announces TORP Terminal LP's (TORP) withdrawal of the deepwater port license application for the proposed Bienville Offshore Energy Terminal (BOET). All actions related to the processing and agency coordination activities required under the Deepwater Port Act of 1974, as amended, are hereby terminated, and the official Record of Decision on the BOET application issued October 29, 2010, by David T. Matsuda, Maritime Administrator, is hereby rescinded.

DATES: The date of withdrawal and cancellation of all actions related to this application was effective June 14, 2012.

ADDRESSES: The Docket Management Facility maintains the public docket for this project. The docket may be viewed electronically at http://www.regulations.gov under docket number USCG-2006-24644, or in person at the U.S. Department of Transportation, Docket Operations, M-30, West Building Ground Floor, Room W12-140, 1200 New Jersey Avenue SE., Washington, DC 20590.

FOR FURTHER INFORMATION CONTACT: If you have questions about the TORP Terminal LP Deepwater Port project, contact Ms. Yvette M. Fields, Director, Office of Deepwater Ports and Offshore Activities, Maritime Administration at 202-366-0926 or Yvette.Fields@dot.gov.

SUPPLEMENTARY INFORMATION: On January 13, 2012, MARAD received notification from the applicant, TORP Terminal LP, of the withdrawal of its application to own, construct, and operate a deepwater port for a liquefied natural gas deepwater port facility, located approximately 62.6 miles south of Fort Morgan, Alabama in the Federal waters of the Outer Continental Shelf (OCS) on Main Pass Block 258 and connected to existing offshore pipelines. Consequently, MARAD has terminated all activities pertaining to TORP's application and has rescinded its Record of Decision for this deepwater port project. All agency records and documents related to the BOET deepwater port license application are being preserved and retained by MARAD and USCG. Further information pertaining to this application may be found in the public docket (see ADDRESSES).

Authority: 49 CFR 1.66.

By Order of the Maritime Administrator.
Dated: June 18, 2012.
Julie P. Agarwal,
Secretary, Maritime Administration.

[FR Doc. 2012-15623 Filed 6-25-12; 8:45 am]

BILLING CODE 4910-81-P